DEPARTMENT OF COMMERCE

International Trade Administration

[A-570-851]

Certain Preserved Mushrooms from the People's Republic of China: Extension of Preliminary Results for Tenth Antidumping Duty New Shipper Review

AGENCY: Import Administration, International Trade Administration, Department of Commerce.

EFFECTIVE DATE: March 26, 2007.

SUMMARY: The Department of Commerce (the “Department”) is extending the preliminary results of the tenth new shipper review of the antidumping duty order on certain preserved mushrooms from the People's Republic of China (“PRC”) by an additional 120 days to July 19, 2007.

FOR FURTHER INFORMATION CONTACT: Julia Hancock, AD/CVD Operations, Office 9, Import Administration, International Trade Administration, U.S. Department of Commerce, 14th Street and Constitution Avenue, N.W., Washington, D.C. 20230; telephone: (202) 482-1394.

SUPPLEMENTARY INFORMATION:

Background

On September 22, 2006, the Department initiated a new shipper review of the antidumping duty order on certain preserved mushrooms from the PRC, covering the period of review, February 1, 2006, to July 31, 2006 (“POR”), on Guangxi Jisheng Foods, Inc. (“Jisheng”). See Notice of Initiation of Antidumping Duty New Shipper Review: Certain Preserved Mushrooms from the People's Republic of China, 71 FR 56954 (September 28, 2006).

On December 14, 2006, the Department requested comments from interested parties regarding surrogate country selection and publicly available information for valuing factors of production. On February 5, 2007, Jisheng submitted comments on publicly available information for valuing factors of production.

Extension of Time Limit for Preliminary Results

Pursuant to section 751(a)(2)(B)(iv) of the Tariff Act of 1930, as amended (“the Act”), and section 351.214(i)(1) of the Department's regulations, the Department shall issue preliminary results in a new shipper review of an antidumping duty order within 180 days after the date on which the new shipper review was initiated. The Act further provides, however, that the Department may extend that 180-day period to 300 days if it determines that this review is extraordinarily complicated.

The Department finds that this review is extraordinarily complicated and that it is not practicable to complete this new shipper review within the foregoing time period. Specifically, the Department requires additional time to analyze all questionnaire responses and has determined to conduct verification of the responses submitted, as well as to examine whether Jisheng's U.S. sale was made on a bona fide basis. Accordingly, the Department finds that additional time is needed in order to complete these preliminary results.

Section 751(a)(2)(B) of the Act and section 351.214(i)(2) of the Department's regulations allow the Department to extend the deadline for the preliminary results to a maximum of 300 days from the date of initiation of the new shipper review. As mentioned, this review was initiated on September 28, 2006. For the reasons noted above, we are extending the time for the completion of the preliminary results of this review to 300 days, i.e., until no later than July 19, 2007. The deadline for the final results of the administrative review continues to be 90 days after the publication of the preliminary results.

This notice is issued and published in accordance with section 351.214(i)(2) of the Department's regulations and section 751(a)(2)(B)(iv) of the Act.

Dated: March 19, 2007.
Stephen J. Claeys,
Deputy Assistant Secretary for Import Administration.

[FR Doc. E7-5499 Filed 3-23-07; 8:45 am]

BILLING CODE 3510-DS-S